DEPARTMENT OF THE INTERIOR

National Park Service

Notice of Inventory Completion: Oregon State University, Department of Anthropology, Corvallis, OR

AGENCY: National Park Service, Interior.

ACTION: Notice.

Notice is here given in accordance with the Native American Graves Protection and Repatriation Act (NAGPRA), 25 U.S.C. 3003, of the completion of an inventory of human remains in the control of Oregon State University, Department of Anthropology, Corvallis, OR. The human remains were removed from an unknown site in Oregon.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Oregon State University, Department of Anthropology professional staff in consultation with representatives of the Confederated Tribes of the Colville Reservation, Washington and Confederated Tribes of the Umatilla Indian Reservation, Oregon. The Burns Paiute Tribe of the Burns Paiute Indian Colony of Oregon; Confederated Tribes of the Coos, Lower Umpqua and Siuslaw Indians of Oregon; Confederated Tribes of the Grande Ronde Community of Oregon; Confederated Tribes of the Siletz Reservation, Oregon; Confederated Tribes of the Warm Springs Reservation of Oregon; Coquille Tribe of Oregon; Cow Creek Band of Umpqua Indians of Oregon; and Klamath Tribes, Oregon were notified, but did not participate in consultations about the human remains described in this notice.

On an unknown date, human remains representing a minimum of one individual were removed from an unknown area in Oregon (UNKNO-C89-0001). No information regarding the accession of the human remains is available. No known individual was identified. No associated funerary objects are present.

The first record of the human remains occurred during an inventory in 2006. At that time, the human remains were recorded with the origins “Flathead Oregon” written on the skull. Subsequently, the human remains were identified as Native American by departmental physical anthropology faculty based on characteristics of the cranial bone structure. There is evidence of slight parietal bossing and slight flattening of the occipital.

Written evidence of cranial deformation in the Columbia Plateau is rare; however, there is evidence that the American Northwest of the Fraser and Columbia Rivers were the lead regions where orbicular, tabular erect and tabular oblique sharpening of the head was most common. The tabular forms of deformation were made by attaching boards to the cradleboard with ropes either in a fixed position or free position. Other forms, such as the annular, were created by wrapping bands around the head. Archeological and historic evidence points to head deformation as a common practice among the bands living along the Columbia River. Lewis and Clark, as well as other early white explorers on the Columbia River, mention head sharpening, especially among the Shahaptain cultural group, the principal language of the Waluulapam (Walla Walla), Imatalamlama (Umatilla), and some of the Weyiiletpuu (Cayuse). Descendants of the Waluulapam, Imatalamlama, and Weyiiletpuu are members of the Confederated Tribes of the Umatilla Indian Reservation, Oregon.

The Confederated Tribes of the Umatilla Indian Reservation ceded 6.4 million acres to the U.S. Government, including southeast Washington and northeast Oregon. Oral histories have identified the entire area of Wanaq'it, the north and south banks of the Columbia River, and the islands in the vicinity as a Traditional Cultural Property of the Confederated Tribes of the Umatilla Indian Reservation. This general area was traditionally used for fishing, food and resource gathering, a travel corridor to the larger village areas near Umatilla and Wallula, a habitation area, and burial grounds. Tribal representatives of the Confederated Tribes of the Colville Reservation, Washington concur that the Confederated Tribes of the Umatilla Indian Reservation, Oregon occupied the areas of southeast Washington and northeast Oregon.

Officials of Oregon State University, Department of Anthropology have determined that, pursuant to 25 U.S.C. 3001 (9-10), the human remains described above represent the physical remains of one individual of Native American ancestry. Officials of the Oregon State University, Department of Anthropology also have determined that, pursuant to 25 U.S.C. 3001 (2), there is a relationship of shared group identity that can be reasonably traced between the Native American human remains and the Confederated Tribes of the Umatilla Indian Reservation, Oregon.

Representatives of any other Indian tribe that believes itself to be culturally affiliated with the human remains should contact Dr. David McMurray, Oregon State University, Department of Anthropology, 238 Waldo Hall, Corvallis, OR 97331, telephone (541) 737-3850, before April 13, 2009. Repatriation of the human remains to the Confederated Tribes of the Umatilla Indian Reservation, Oregon may proceed after that date if no additional claimants come forward.

The Oregon State University, Department of Anthropology is responsible for notifying the Burns Paiute Tribe of the Burns Paiute Indian Colony of Oregon; Confederated Tribes of the Colville Reservation, Washington; Confederated Tribes of the Coos, Lower Umpqua and Siuslaw Indians of Oregon; Confederated Tribes of the Grande Ronde Community of Oregon; Confederated Tribes of the Siletz Reservation, Oregon; Confederated Tribes of the Umatilla Indian Reservation, Oregon; Confederated Tribes of the Warm Springs Reservation of Oregon; Coquille Tribe of Oregon; Cow Creek Band of Umpqua Indians of Oregon; and Klamath Tribes, Oregon that this notice has been published.

Dated: February 4, 2009.
Sherry Hutt,
Manager, National NAGPRA Program.

[FR Doc. E9-5339 Filed 3-11-09; 8:45 am]

BILLING CODE 4312-50-S